DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Assistant Administrator of the Mitigation Directorate has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | * Elevation in feet (NGVD) + Elevation in feet (NAVD) # Depth in feet above ground Modified
Unincorporated Areas of Sutter County, California
Docket Nos.: FEMA-B-7472; B-7753; and B-7760
California | Unincorporated Areas of Sutter County | Bear River | Approximately 0.9 miles upstream of the confluence with Feather River | *54
|  |  | At Wheatland Road | *96
California | Unincorporated Areas of Sutter County | East Side Canal | Downstream source of the East Side Canal | *40
|  |  | 1,500 feet downstream of Catlett Road | *40
California | Unincorporated Areas of Sutter County | Feather River | At the confluence with Sacramento River | *40
|  |  | Approximately 1.5 miles upstream of Bogue Road | *72
California | Unincorporated Areas of Sutter County | King Slough | Confluence with East Side Canal | *40
|  |  | 1,600 feet upstream of the confluence of North King Slough | *40
California | Unincorporated Areas of Sutter County | Natomas Basin | Area West of Natomas East Main Drainage Canal | *33
|  |  | Area South of Cross Canal | *33
|  |  | Area East of Sacramento River | *33
California | Unincorporated Areas of Sutter County | North King Slough | Confluence with King Slough | *40
|  |  | 3,200 feet upstream of the confluence with King Slough | *40
California | Unincorporated Areas of Sutter County | Yankee Slough | At the confluence with Bear River | *58
|  |  | Approximately 1.1 miles upstream of Brewer Road | *75
* National Beodetic Vertical Datum.
+ North American Vertical Datum.
# Depth in feet above ground.
ADDRESSES
Unincorporated Areas of Sutter County
Maps are available for inspection at Sutter County Administrators Office, 1160 Civic Center Boulevard, Yuba City, CA 95993.
City of Troy, Michigan
Docket No.: FEMA-B-7749
Michigan | City of Troy | Hawthorn Drain | Downstream side of Dequindre Road | +629
|  |  | Approximately 750 feet upstream of Minnesota Road | +635
Michigan | City of Troy | Shanahan Drain (West of Henry Graham Drain) | Inlet to Henry Graham Drain | +639
|  |  | Downstream side of John R Road | +644
Michigan | City of Troy | Spencer-Barnard Drain (East) | Downstream side of Dequindre Road | +630
|  |  | Upstream side of Minnesota Road | +632
Michigan | City of Troy | Spencer-Barnard Drain (West) | Upstream side of John R Road | +639
|  |  | Approximately 1,800 feet upstream of Maple Road | +662
* National Geodetic Vertical Datum.
+ North American Vertical Datum.
# Depth in feet above ground.
ADDRESSES
City of Troy
Maps are available for inspection at 500 West Big Beaver Road, Troy, MI 48084.

Flooding source(s) | Location of referenced elevation | * Elevation in feet (NGVD) + Elevation in feet (NAVD) # Depth in feet above ground Modified | Communities affected
Marion County, Tennessee, and Incorporated Areas
Docket No.: FEMA-B-7756
Pryor Cove Branch | Confluence with Standifer Branch | +640 | Town of Jasper.
| Confluence with West Fork Pryor Cove Branch | +714
Sequatchie River | At confluence with Tennessee River | +616 | Town of Jasper.
| Approximately 575 feet upstream of U.S. Highway 41 | +620
Standifer Branch | At confluence of Town Creek | +619 | Town of Jasper.
| At confluence of Pryor Cove Branch | +639
West Fork Pryor Cove Branch | At confluence with Pryor Cove Branch | +714 | Town of Jasper.
| Approximately 250 feet upstream of Pryor Cove Road | +786
* National Geodetic Vertical Datum.
+ North American Vertical Datum.
# Depth in feet above ground.
ADDRESSES
Town of Jasper
Maps are available for inspection at 4460 Main Street, Jasper, TN 37347.
Adams County, Washington, and Incorporated Areas
Docket No.: FEMA-B-7755
Paha Creek | Approximately 1400 feet downstream of Division Street Bridge | +1,790 | City of Ritzville, Unincorporated Areas of Adams County.
| Approximately 800 feet upstream of Fairgrounds footbridge | +1,806
* National Geodetic Vertical Datum.
+ North American Vertical Datum.
# Depth in feet above ground.
ADDRESSES
City of Ritzville
Maps are available for inspection at 216 E. Main Avenue, Ritzville, WA 99169.
Unincorporated Areas of Adams County
Maps are available for inspection at 210 W. Alder, Ritzville, WA 99169.

(Catalog of Federal Domestic Assistance No. 97.022, “Flood Insurance.”)

Dated: July 23, 2008.
David I. Maurstad,
Federal Insurance Administrator of the National Flood Insurance Program, Department of Homeland Security, Federal Emergency Management Agency.

[FR Doc. E8-17681 Filed 7-31-08; 8:45 am]

BILLING CODE 9110-12-P